DEPARTMENT OF JUSTICE

Notice of Lodging Proposed Consent Decree

In accordance with Departmental Policy, 28 CFR 50.7, notice is hereby given that a proposed Consent Decree in Herberg, et al. v. United States Environmental Protection Agency, et al., Civil No. 14-1443 DWF/LIB, was lodged with the United States District Court for the District of Minnesota on February 27, 2015.

This proposed Consent Decree concerns a complaint filed against the United States by Thomas Lloyd Herberg, Bruce Allen Herberg, and D & G Drainage, Inc., pursuant to the Clean Water Act, 33 U.S.C. 1251, et seq., and the Administrative Procedure Act, 5 U.S.C. 551, et seq., to challenge an Administrative Order for Compliance issued to Plaintiffs for violating the Clean Water Act by discharging pollutants without a permit into waters of the United States. The proposed Consent Decree resolves these allegations, as well as the United States' potential enforcement counterclaims, by requiring the Plaintiffs to perform mitigation and to pay a civil penalty.

The Department of Justice will accept written comments relating to this proposed Consent Decree for thirty (30) days from the date of publication of this Notice. Please address comments to Daniel R. Dertke, Senior Attorney, United States Department of Justice, Environment and Natural Resources Division, Environmental Defense Section, Post Office Box 7611, Washington, DC 20044 and refer to Herberg, et al. v. United States Environmental Protection Agency, et al., DJ #90-5-1-4-20160.

The proposed Consent Decree may be examined at the Clerk's Office, United States District Court for the District of Minnesota, United States Courthouse, 300 South Fourth Street, Suite 202, Minneapolis, MN 55415. In addition, the proposed Consent Decree may be examined electronically at http://www.justice.gov/enrd/Consent_Decrees.html.

Cherie L. Rogers,
Assistant Section Chief, Environmental Defense Section, Environment and Natural Resources Division.

[FR Doc. 2015-07150 Filed 3-27-15; 8:45 am]

BILLING CODE 4410-15-P